DEPARTMENT OF HEALTH AND HUMAN SERVICES

Centers for Medicare & Medicaid Services

[Document Identifier: CMS-10232, CMS-10251, CMS-R-185, and CMS-R-211]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of currently approved collection; Title of Information Collection: State Plan Template to Implement Section 6062 of the Deficit Reduction Act; Form No.: CMS-10232 (OMB#: 0938-1045); Use: The Deficit Reduction Act (DRA) provides States with numerous flexibilities in operating their State Medicaid Programs. Section 6062 of the DRA (Opportunity for families of Disabled Children to Purchase Medicaid Coverage for Such Children) provides States the opportunity to provide Medicaid benefits to disabled children who would otherwise be ineligible because of family income that is above the State's highest Medicaid eligibility standards for children. States must establish a State Plan for medical assistance to implement this provision. To do this, State Medicaid Agencies will complete the template. CMS will review the information to determine if the State has met all the requirements of the DRA provision; Frequency: Once; Affected Public: State, Federal, or Tribal Governments; Number of Respondents: 56; Total Annual Responses: 10; Total Annual Hours: 60. (For policy questions regarding this collection contact Barbara Washington at 410-786-9964. For all other issues call 410-786-1326.)

2. Type of Information Collection Request: Extension of a currently approved collection; Title of Information Collection: Integrated Medicare and Medicaid State Plan Preprint; Form No.: CMS-10251 (OMB#: 0938-1047); Use: The Integrated Care Preprint is an optional tool for use by States to highlight the arrangements provided between the State and Medicare Advantage Special Needs Plans that are also providing Medicaid services. The preprint also provides the opportunity for States to confirm that their integrated care model complies with Federal statutory and regulatory requirements. State Medicaid Agencies may complete the preprint and CMS will review the information provided to determine if the State has properly completed and explained their integrated care arrangements and that the appropriate assurances have been met; Frequency: Once; Affected Public: State, Local, or Tribal Governments; Number of Respondents: 56; Total Annual Responses: 10; Total Annual Hours: 200. (For policy questions regarding this collection contact Mary Pat Farkas at 410-786-5731. For all other issues call 410-786-1326.)

3. Type of Information Collection Request: Extension of currently approved collection; Title of Information Collection: Granting and Withdrawal of Deeming Authority to Private Nonprofit Accreditation Organizations and of State Exemption Under State Laboratory Programs and Supporting Regulations; Form No.: CMS-R-185 (OMB#: 0938-0686); Use: The information required is necessary to determine whether a private accreditation organization/State licensure program standards and accreditation/licensure process is at least equal to or more stringent than those of the Clinical Laboratory Improvement Amendments of 1988 (CLIA). If an accreditation organization is approved, the laboratories that it accredits are “deemed” to meet the CLIA requirements based on this accreditation. Similarly, if a State licensure program is determined to have requirements that are equal to or more stringent than those of CLIA, its laboratories are considered to be exempt from CLIA certification and requirements. The information collected will be used by HHS to: Determine comparability/equivalency of the accreditation organization standards and policies or State licensure program standards and policies to those of the CLIA program; to ensure the continued comparability/equivalency of the standards; and to fulfill certain statutory reporting requirements; Frequency: Occasionally; Affected Public: Private Sector: Business or other for-profits, Not-for-profit institutions; Number of Respondents: 8; Total Annual Responses: 96; Total Annual Hours: 384. (For policy questions regarding this collection contact Minnie Christian at 410-786-3339. For all other issues call 410-786-1326.)

4. Type of Information Collection Request: Revision of currently approved collection; Title of Information Collection: Model Application Template and Instructions for State Child Health Plan Under Title XXI of the Social Security Act, State Children's Health Insurance Program; Form No.: CMS-R-211 (OMB#: 0938-0707); Use: The information will be used to assess State plan performance and health outcomes and to evaluate the amount of substitute private coverage and the effect of subsidies on access to coverage; Frequency: Yearly, occasionally; Affected Public: State, Federal, or Tribal Governments; Number of Respondents: 40; Total Annual Responses: 40; Total Annual Hours: 3,200. (For policy questions regarding this collection contact Nancy Goetschius at 410-786-0707. For all other issues call 410-786-1326.)

To be assured consideration, comments and recommendations for the proposed information collections must be received by the OMB desk officer at the address below, no later than 5 p.m. on June 20, 2011.

OMB, Office of Information and Regulatory Affairs, Attention: CMS Desk Officer, Fax Number: (202) 395-6974, E-mail: OIRA_submission@omb.eop.gov.

Dated: May 16, 2011.
Martique Jones,
Director, Regulations Development Group, Division-B, Office of Strategic Operations and Regulatory Affairs.

[FR Doc. 2011-12394 Filed 5-19-11; 8:45 am]

BILLING CODE 4120-01-P